FARM CREDIT ADMINISTRATION

12 CFR Part 614

RIN 3052-AC62

Loan Policies and Operations; Loan Purchases From FDIC

AGENCY: Farm Credit Administration.

ACTION: Proposed rule; reopening of comment period.

SUMMARY: The Farm Credit Administration (FCA) is reopening the comment period on our proposed rule that would permit Farm Credit System institutions with direct lending authority to purchase from the Federal Deposit Insurance Corporation loans to farmers, ranchers, producers or harvesters of aquatic products and cooperatives that meet eligibility and scope of financing requirements. We are reopening the comment period, so that interested parties have additional time to provide comments.

DATES: You may send comments on or before October 18, 2010.

ADDRESSES: We offer a variety of methods for you to submit your comments. For accuracy and efficiency reasons, commenters are encouraged to submit comments by e-mail or through the FCA's Web site. As facsimiles (faxes) are difficult for us to process and achieve compliance with section 508 of the Rehabilitation Act, we are no longer accepting comments submitted by fax. Regardless of the method you use, please do not submit your comment multiple times via different methods. FCA requests that comments to the proposed amendment include the reference RIN 3052-AC62. You may submit comments by any of the following methods:

• E-mail: Send us an e-mail at reg-comm@fca.gov.

• FCA Web site: http://www.fca.gov. Select “Public Commenters,” then “Public Comments,” and follow the directions for “Submitting a Comment.”

• Federal eRulemaking Portal: http://www.regulations.gov. Follow the instructions for submitting comments.

• Mail: Gary K. Van Meter, Deputy Director, Office of Regulatory Policy, Farm Credit Administration, 1501 Farm Credit Drive, McLean, VA 22102-5090.

You may review copies of all comments we receive at our office in McLean, Virginia, or from our Web site at http://www.fca.gov. Once you are in the Web site, select “Public Commenters,” then “Public Comments,” and follow the directions for “Reading Submitted Public Comments.” We will show your comments as submitted but, for technical reasons, we may omit items such as logos and special characters. Identifying information you provide, such as phone numbers and addresses, will be publicly available. However, we will attempt to remove e-mail addresses to help reduce Internet spam.

FOR FURTHER INFORMATION CONTACT:

Mark L. Johansen, Senior Policy Analyst, Office of Regulatory Policy, Farm Credit Administration, McLean, VA 22102-5090, (703) 883-4498, TTY (703) 883-4434,

or

Mary Alice Donner, Senior Attorney, Office of General Counsel, Farm Credit Administration, McLean, VA 22102-5090, (703) 883-4033, TTY (703) 883-4020.

SUPPLEMENTARY INFORMATION: On May 18, 2010, FCA published a proposed rule in the Federal Register that would permit Farm Credit System institutions with direct lending authority to purchase from the Federal Deposit Insurance Corporation loans to farmers, ranchers, producers or harvesters of aquatic products and cooperatives that meet eligibility and scope of financing requirements. See 75 FR 27660. The comment period expired on July 19, 2010. In response to statements by the Independent Community Bankers of America, Minnesota Community Bankers, and other commercial bankers that due to the time needed to review the Dodd-Frank Wall Street Reform and Consumer Protection Act (H.R. 4173) they have not had adequate time to analyze this proposal, and their requests for additional time to comment, the FCA has determined to reopen the comment period to allow an additional 30 days to comment. The FCA supports public involvement and participation in its regulatory process and invites all interested parties to review and provide comments on our proposed rule.

Date: September 9, 2010.
Roland E. Smith,
Secretary, Farm Credit Administration Board.

[FR Doc. 2010-23068 Filed 9-15-10; 8:45 am]

BILLING CODE 6705-01-P